DEPARTMENT OF ENERGY

Federal Energy Regulatory Commission

[Docket No. EL11-20-000]

PJM Power Providers Group v. PJM Interconnection, L.L.C.; Notice of Complaint

Take notice that on February 1, 2011, pursuant to section 206 of the Federal Power Act, and Rule 206 of the Federal Energy Regulatory Commission's (Commission) Rules of Practice and Procedure, 18 CFR 385.206, PJM Power Providers Group (Complainant) filed a formal complaint against PJM Interconnection, L.L.C. (Respondent), alleging that the tariffs governing the Respondent's Reliability Pricing Model are unjust and unreasonable and could be subject to manipulation.

The Complainants certifies that copies of the complaint were served on the contacts for the Respondent as listed on the Commission's list of Corporate Officials and on parties and regulatory agencies the Respondent reasonably expects to be affected by this Complaint.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov or call (866) 208-3676 (toll free). For TTY, call (202) 502-8659.

Comment Date: 5 p.m. Eastern Time on February 22, 2011.

Dated: February 4, 2011.
Kimberly D. Bose,
Secretary.

[FR Doc. 2011-3154 Filed 2-10-11; 8:45 am]

BILLING CODE 6717-01-P